DEPARTMENT OF COMMERCE

International Trade Administration

[A-428-834]

Notice of Final Determination of Sales at Less Than Fair Value: Certain Cold Rolled Carbon Steel Flat Products From Germany

AGENCY: Import Administration, International Trade Administration, Department of Commerce.

EFFECTIVE DATE: October 3, 2002.

FOR FURTHER INFORMATION CONTACT: Anya Naschak, Helen Kramer, or Abdelali Elouaradia at (202) 482-0405, (202) 482-6375, or (202) 482-1374, respectively; Antidumping and Countervailing Duty Enforcement Group III, Import Administration, International Trade Administration, U.S. Department of Commerce, 14th Street and Constitution Avenue, NW., Washington, DC 20230.

SUPPLEMENTARY INFORMATION:

Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce (Department) regulations are to the regulations at 19 CFR part 351 (April 2001).

Final Determination

We determine that certain cold-rolled carbon steel flat products (cold-rolled steel) from Germany are being, or are likely to be, sold in the United States at less than fair value (LFTV), as provided in section 735 of the Act. The estimated margins are shown in the “Suspension of Liquidation” section of this notice.

Case History

This investigation was initiated on October 18, 2001.¹ See Notice of Initiation of Antidumping Duty Investigations: Certain Cold-Rolled Carbon Steel Flat Products From Argentina, Australia, Belgium, Brazil, France, Germany, India, Japan, Korea, the Netherlands, New Zealand, the People's Republic of China, the Russian Federation, South Africa, Spain, Sweden, Taiwan, Thailand, Turkey, and Venezuela, 66 FR 54198 (October 26, 2001). We published in the Federal Register the preliminary determination in this investigation on May 9, 2002. See Notice of Preliminary Determination of Sales at Not Less Than Fair Value and Postponement of Final Determination: Certain Cold Rolled Carbon Steel Flat Products from Germany, 67 FR 31212 (May 9, 2002) (Preliminary Determination). We published in the Federal Register the amended preliminary determination in this investigation on May 29, 2002. See Notice of Amended Preliminary Determination of Sales at Less Than Fair Value: Certain Cold-Rolled Carbon Steel Flat Products from Germany, 67 FR 37385 (May 29, 2002) (Amended Preliminary Determination).

¹ The petitioners in this investigation are Bethlehem Steel Corporation, LTV Steel Company, Inc., Nucor Corporation, Steel Dynamics, Inc., United States Steel Corporation, WCI Steel, Inc., and Weirton Steel Corporation (collectively, petitioners).

Since the publication of the Preliminary Determination the following events have occurred.

With respect to scope, in the preliminary LTFV determinations in these cases, the Department preliminarily excluded certain porcelain enameling steel from the scope of these investigations. See Scope Appendix to the Notice of Preliminary Determination of Sales at Less Than Fair Value: Certain Cold-Rolled Carbon Steel Flat Products from Argentina, 67 FR 31181 (May 9, 2002) (Scope Appendix—Argentina Preliminary LTFV Determination). On June 13, 2002, we issued a preliminary decision on the remaining 75 scope exclusion requests filed in a number of the on-going cold-rolled steel investigations (see the June 13, 2002, memorandum regarding “Preliminary Scope Rulings in the Antidumping Investigations on Certain Cold-Rolled Carbon Steel Flat Products from Argentina, Australia, Belgium, Brazil, France, Germany, India, Japan, Korea, the Netherlands, New Zealand, the People's Republic of China, the Russian Federation, South Africa, Spain, Sweden, Taiwan, Thailand, Turkey, and Venezuela, and in the Countervailing Duty Investigations of Certain Cold-Rolled Carbon Steel Flat Products from Argentina, Brazil, France, and Korea” (Preliminary Scope Rulings), which is on file in the Department's Central Records Unit (CRU), room B-099 of the main Department building). We gave parties until June 20, 2002, to comment on the preliminary scope rulings, and until June 27, 2002, to submit rebuttal comments. We received comments and/or rebuttal comments from petitioners and respondents from various countries subject to these investigations of cold-rolled steel. In addition, on June 13, 2002, North American Metals Company (an interested party in the Japanese proceeding) filed a request that the Department issue a “correction” for an already excluded product. On July 8, 2002, the petitioners objected to this request.

At the request of multiple respondents, the Department held a public hearing with respect to the Preliminary Scope Rulings on July 1, 2002. The Department's final decisions on the scope exclusion requests are addressed in the “Scope of Investigation” section below.

On April 26, 2002, we issued additional supplemental questionnaires for sections B through E to the respondent, Thyssen Krupp Stahl AG (Thyssen). Thyssen submitted its response to the supplemental sections B through E questionnaires on May 13, 2002. The Department received requests for a public hearing on May 20, 2002, and June 10, 2002, from petitioners, and from Thyssen on June 5, 2002. All parties withdrew their requests for a public hearing.

The Department verified sections A and B of Thyssen's responses from May 21, 2002, to May 25, 2002, at Thyssen's facilities in Duisburg, Germany; at Thyssen's trading company from May 27, 2002, to May 29, 2002, in Langenfeld, Germany, and at Thyssen's affiliated company on May 31, 2002, in Andernach, Germany. The Department also verified section D of Thyssen's response from May 27, 2002, to May 31, 2002, at Thyssen's facilities. Additionally, the Department verified sections E of Thyssen's responses from June 10, 2002, to June 14, 2002, at Thyssen's affiliated companies in Detroit, Michigan, and verified section C of Thyssen's response from June 17, 2002, to June 21, 2002, at Thyssen's affiliated companies in Detroit, Michigan. See Memorandum to the File: “Sales Verification of Sections A and B Questionnaire Responses Submitted by Thyssen Krupp Stahl AG,” July 23, 2002, (Home Market Verification Report); Memorandum to the File: “Sales Verification of Sections A and C Questionnaire Responses Submitted by Thyssen Krupp Stahl AG,” July 23, 2002, (U.S. Verification Report); Memorandum to Neal Halper, Director, Office of Accounting: “Verification Report on the Cost of Production and Constructed Value,” July 22, 2002, (Cost Verification Report); and Memorandum to Neal Halper, Director, Office of Accounting: “Verification Report on the Further Manufacturing Cost Data,” July 31, 2002, (Further Manufacturing Cost Verification Report). Public version of these and all other departmental memoranda referred to herein are on file in the CRU room B-099 of the main Commerce building.

On August 9, 2002, the Department received case briefs from Thyssen and petitioners. On August 14, 2002, the Department received rebuttal briefs from Thyssen and petitioners. On August 26, 2002, the Department met with counsel for Thyssen. See Memorandum to the File regarding Ex-Parte Meeting with Counsel for Respondent, dated August 26, 2002.

Period of Investigation

The POI is July 1, 2000, through June 30, 2001. This period corresponds to the four most recent fiscal quarters prior to the filing of the petition in September 2001.

Scope of Investigation

For purposes of this investigation, the products covered are certain cold-rolled (cold-reduced) flat-rolled carbon-quality steel products. For a full description of the scope of this investigation, as well as a complete discussion of all scope exclusion requests submitted in the context of the on-going cold-rolled steel investigations, please see the “Scope Appendix” attached to the Notice of Correction to Final Determination of Sales at Less Than Fair Value: Certain Cold-Rolled Carbon Steel Flat Products from Australia, 67 FR 52934 (August 14, 2002). For a complete discussion of the comments received on the Preliminary Scope Rulings, see the memorandum regarding “Issues and Decision Memorandum for the Final Scope Rulings in the Antidumping Duty Investigations on Certain Cold-Rolled Carbon Steel Flat Products from Argentina, Australia, Belgium, Brazil, France, Germany, India, Japan, Korea, the Netherlands, New Zealand, the People's Republic of China, the Russian Federation, South Africa, Spain, Sweden, Taiwan, Thailand, Turkey, and Venezuela, and in the Countervailing Duty Investigations of Certain Cold-Rolled Carbon Steel Flat Products from Argentina, Brazil, France, and Korea,” dated July 10, 2002, which is on file in the CRU.

Analysis of Comments Received

All issues raised in the case briefs by parties to this proceeding and to which we have responded are listed in the Appendix to this notice and addressed in the Issues and Decision Memorandum for the Antidumping Investigation of Cold Rolled Carbon Steel Flat Products from Germany; Notice of Final Determination of Sales at Less Than Fair Value (Decision Memo), which is adopted by this notice. Parties can find a complete discussion of the issues raised in this investigation and the corresponding recommendations in this public memorandum, which is on file in the Central Records Unit, room B-099 of the main Commerce Building. In addition, a complete version of the Decision Memorandum can be accessed directly on the World Wide Web at http://ia.ita.doc.gov/frn/index.html. The paper copy and electronic version of the Decision Memorandum are identical in content.

Changes Since the Preliminary Determination

Based on our analysis of comments received and findings at verification, we have made certain changes in the margin calculation. These changes are noted in various sections of the Decision Memo, accessible in B-099 and on the World Wide Web at http://www.ia.ita.doc.gov/frn.

Use of Facts Available

In the Preliminary Determination, the Department based the dumping margin for Thyssen in part on facts available pursuant to section 776(b) of the Act. The use of facts available was warranted because Thyssen failed to supply the information the Department requested for downstream home market sales made by its affiliated trading companies/service centers. Moreover, the Department found that Thyssen failed to cooperate by not acting to the best of its ability. As a result, pursuant to section 776(b) of the Act, the Department used an adverse inference in selecting from the facts available. Specifically, for the Preliminary Determination, the Department assigned Thyssen (by control number) the highest gross unit price and the lowest or highest adjustments—whichever is adverse—for sales in the home market within two widths corresponding to a portion of the widths sold by Thyssen's affiliated service centers (see Thyssen's March 19, 2002, supplemental section B response), and the revised amounts were used to calculate normal value (NV). For a complete explanation of both the selection and application of these facts available, see e.g. Preliminary Determination and Memorandum to the File, regarding the Preliminary Determination Analysis, dated April 26, 2002.

In accordance with section 776 of the Act, we have determined that, due to Thyssen's continued refusal to supply the information requested by the Department on its home market downstream sales by its affiliates despite its ability to do so, and due to Thyssen's continued failure to act to the best of its ability, the use of adverse facts available is appropriate in this final determination. Accordingly, we have applied the highest gross unit price and the lowest or highest adjustments—whichever is adverse—by control number to all sales in the home market. For a discussion of our determination with respect to these matters, see Decision Memo at Comment 1.

Suspension of Liquidation

In accordance with section 735(c)(1)(B) of the Act, we are directing the Customs Service to continue to suspend all entries of cold-rolled steel from Germany, that are entered, or withdrawn from warehouse, for consumption on or after May 9, 2002, the date of publication of our preliminary determination. The Customs Service shall continue to require a cash deposit or the posting of a bond equal to the estimated amount by which the normal value exceeds the U.S. price as shown below. These instructions suspending liquidation will remain in effect until further notice.

We determine that the following weighted-average dumping margin exists for the period July 1, 2000, through June 30, 2001:

Exporter/manufacturer | Margin (percent)
Thyssen Krupp Stahl AG | 12.56
All Others | 12.56

International Trade Commission (ITC) Notification

In accordance with section 735(d) of the Act, we have notified the ITC of our determination. As our final determination is affirmative, the ITC will determine, within 45 days, whether these imports are causing material injury, or threat of material injury, to an industry in the United States. If the ITC determines that material injury, or threat of injury does not exist, the proceeding will be terminated and all securities posted will be refunded or cancelled. If the ITC determines that such injury does exist, the Department will issue an antidumping duty order directing Customs officials to assess antidumping duties on all imports of the subject merchandise entered, or withdrawn from warehouse, for consumption on or after the effective date of the suspension of liquidation.

This determination is issued and published in accordance with sections 735(d) and 777(i)(1) of the Act.

Dated: September 23, 2002.
Faryar Shirzad,
Assistant Secretary for Import Administration.

Appendix I: Issues in Decision Memorandum

Comment 1: Use of Adverse Facts Available for Home Market Downstream Sales

Comment 2: Home Market Discounts

Comment 3: Inland Freight, Mill to Company Border—Movement Expense

Comment 4: Home Market Indirect Selling Expenses

Comment 5: Home Market Credit Expenses

Comment 6: Date of Sale

Comment 7: Use of Facts Available for Sales by the Budd Company

Comment 8: U.S. Sales Clerical Errors

Comment 9: U.S. Credit and Inventory Carrying Costs

Comment 10: U.S. Indirect Selling Expense

Comment 11: Setting Negative Margins to Zero in the Calculation of the Dumping Margin

Comment 12: Clerical Corrections in the Home Market and U.S. Sales and Cost Verification Reports

Comment 13: Slabs Supplied by a TKS affiliate

Comment 14: Unreconciled Difference

Comment 15: Mill Edge Credit in the U.S. Market

Comment 16: General and Administrative Expense Ratio

Comment 17: Financial Expense Ratio

Comment 18: G&A Further Manufacturer

Comment 19: Depreciation of Machine Tools and Spare Parts

[FR Doc. 02-24792 Filed 10-2-02; 8:45 am]

BILLING CODE 3510-DS-P